DEPARTMENT OF HEALTH AND HUMAN SERVICES

Health Resources and Services Administration

Poison Control Program

AGENCY: Health Resources and Services Administration, HHS.

ACTION: Notice of Noncompetitive Replacement Awards to the Research Foundation of SUNY and the New York City Health & Hospitals Corporation.

SUMMARY: HRSA will transfer funds and duties from Kaleida Health and University of Rochester to the Research Foundation of SUNY d.b.a. the Upstate New York Poison Control Center. HRSA will also transfer funds and duties from Winthrop University to the New York City Health & Hospitals Corporation d.b.a. the New York City Poison Control Center. These transfers are necessary in order to maintain poison control services and education efforts throughout the State of New York.

SUPPLEMENTARY INFORMATION:

Former Grantee of Record: Kaleida Health, University of Rochester; and Winthrop University are the three former grantees.

Original Period of Grant Support is from: September 1, 2009 to August 31, 2014.

Replacement awardees: The Research Foundation of SUNY and the New York City Health & Hospitals Corporation are the replacement awardees.

Period of Replacement Awards: The period of support for the replacement awards is January 1, 2011, to August 31, 2011.

Amount of Replacement Awards is as follows:

Kaleida Health d.b.a. the Western New York Poison Center (H4BHS15474) will transfer $78,720 to the Research Foundation of SUNY d.b.a. the Upstate New York Poison Center (H4BHS15475);

University of Rochester d.b.a. the Ruth A. Lawrence Poison and Drug Information Center (H4BHS15476) will transfer approximately $78,820 to the Research Foundation of SUNY d.b.a. the Upstate New York Poison Center (H4BHS15475); and

Winthrop University d.b.a. the Long Island Regional Poison and Drug Information Center (H4BHS15478) will transfer $230,397 to the New York City Health & Hospitals Corporation d.b.a. the New York City Poison Control Center (H4BHS15477).

Authority: Section 1273 of the PHS (42 U.S.C. 300d—73), as amended by Poison Center Support Enhancement and Awareness Act of 2008.

CFDA Number: 93.253.

Justification for the Exception to Competition

The poison centers operated by the Research Foundation of SUNY and the New York City Health & Hospitals Corporation currently provide poison center services to the citizens of New York, 24 hours a day, 7 days a week. These services include telephone treatment advice and consultation about toxic exposures for both the public and health care professionals and toxico and public health surveillance. Educators at the centers provide public education about poison prevention and clinical toxicology training for many different healthcare professionals. The centers also offer programs to help clinicians better manage poisoning and overdose cases that end up in a healthcare facility.

These centers have the capacity to provide poison control service to the areas formerly served by Kaleida Health, University of Rochester, and Winthrop University, ensuring access to critical poison emergency treatment and poison prevention information statewide, and to fulfill the expectations of the original funded application. These replacement grants will also ensure that there is no delay or gap in poison center services.

The State of New York has determined that the Research Foundation of SUNY and the New York City Health & Hospitals Corporation are the best qualified grantees for this award. On December 13, 2010, the State provided HRSA with a letter designating the two centers as the official poison centers of New York and assigning them specific service areas.

FOR FURTHER INFORMATION CONTACT: Poison Control Program, Director, Elisa Gladstone via e-mail at EGladstone@hrsa.gov or via telephone at (301) 594-4394.

Dated: February 14, 2011.
Mary K. Wakefield,
Administrator.

[FR Doc. 2011-3751 Filed 2-17-11; 8:45 am]

BILLING CODE 4165-15-P